DEPARTMENT OF DEFENSE

Department of the Army

Draft Environmental Impact Statement for Real Property Master Plan Implementation at Military Ocean Terminal Sunny Point, North Carolina AGENCY: Department of the Army, DoD.

ACTION: Notice of availability.

SUMMARY: The Department of the Army (Army) announces the availability of the Draft Environmental Impact Statement (DEIS) for implementing proposed real property actions at Military Ocean Terminal Sunny Point (MOTSU), North Carolina. This DEIS evaluates the potential effects of the implementation of various projects needed for the safety and mission of the facility and provides an analysis of the effects of implementing real property maintenance, repair, upgrade, and development actions. The proposed action is needed to address improvements to real property related to explosive safety, waterfront maintenance, security, and linear infrastructure. The projects and programs address compliance with federal, state, DoD, and Army standards vital to safety, security, and other mission needs. The document also makes available for public comment a Draft Finding of No Practicable Alternative (FONPA) prepared because portions of the proposed action occur in floodplains or involve construction in wetlands, or both.

DATES: Comments on the DEIS can be submitted during the 45-day public review period, through 4 February 2025.

ADDRESSES: Please send written comments to James A. Rupkalvis, Installation Manager, 6280 Sunny Point Road, Southport, NC 28461-7800, or via email to james.a.rupkalvis.civ@army.mil.

FOR FURTHER INFORMATION CONTACT: Michael Burkhalter, Legislative Affairs Officer, Public and Congressional Affairs Office, Military Surface Deployment and Distribution Command; telephone: (618) 220-6119; email: michael.d.burkhalter.civ@army.mil.

SUPPLEMENTARY INFORMATION: MOTSU is the Military Surface Deployment and Distribution Command's East Coast strategic ammunition port and is DoD's primary ammunition seaport supporting the European, African, and Middle Eastern areas of operation. The proposed action includes barricade safety, waterfront maintenance, Pleasure Island Explosive Safety Clear Zone security, linear infrastructure (e.g., roads, rail, utilities, firebreaks), stormwater mitigation, and cantonment area infill. The proposed action also includes modernizing operation areas and general repair and maintenance of infrastructure, to include facilities, wharves, roads, rail, utilities, and perimeter security. The proposed projects address critical mission requirements and are planned for fiscal years 2025 through 2031.

The DEIS evaluates the potential impacts associated with implementing the proposed RPMP activities, to include analyzing Full-Plan Implementation, a Partial Implementation Alternative, and a No-Action Alternative. The DEIS assesses the impacts of the alternatives on resources and identifies mitigation measures. Resource areas and potential impacts addressed include coastal zone management, air quality, noise, geology and soils, water resources, biological resources, and cultural resources. The DEIS has not identified any significant impacts, but consultation is ongoing with regulatory agencies.

Executive Order (E.O.) 11988, Floodplain Management, requires that if an agency finds that the only practicable alternative for an action requires siting in a floodplain, the agency shall design or modify its action in order to minimize potential harm to or within the floodplain. Under E.O. 11990, Protection of Wetlands, an agency must avoid undertaking new construction in wetlands unless the agency finds that there is no practicable alternative to such construction. The Army determined that elements of the proposed action must be located within portions of the floodplain and wetlands at MOTSU. Accordingly, a Draft FONPA—i.e., a notice containing an explanation of why the action is proposed to be located in floodplains and wetlands—is also being circulated for public review and comment.

Native American Tribes, federal, state, and local agencies/officials, and other interested entities/individuals are encouraged to comment on the DEIS and Draft FONPA during the 45- day public comment period. The DEIS and Draft FONPA are available on the project website at: https://www.sddc.army.mil/SitePages/Environmental%20Programs.aspx. All comments postmarked or received by 4 February 2025 will be considered in the development of the Final EIS. Following the conclusion of the comment period, the Army will consider all comments and prepare responses that will appear in an appendix of the Final EIS. The Final EIS will be made available to the public, which will start a 30-day waiting period. No sooner than the conclusion of that waiting period, the Army will publish a Record of Decision.

James W. Satterwhite Jr.,
U.S. Army Federal Register Liaison Officer.

[FR Doc. 2024-30382 Filed 12-19-24; 8:45 am]

BILLING CODE 3711-CC-P